ENVIRONMENTAL PROTECTION AGENCY

[FRL-7915-2]

Proposed CERCLA Section 122(g) de minimis Administrative Agreement Regarding the Li Tungsten Superfund Site, Located in Glen Cove, Nassau County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region II, of a proposed de minimis administrative agreement pursuant to section 122(g) of CERCLA, 42 U.S.C. 9622(g), pertaining to the Li Tungsten Site (“Site”) located in Glen Cove, Nassau County, New York. The settlement requires that 22 settling parties, identified by EPA as having contributed a minimal volume of hazardous substances, pay a total of $210,970 into a special account which has been established for the Site. This amount is considered to be their fair share of cleanup costs incurred and anticipated to be incurred in the future, plus a “premium” that accounts for, among other things, uncertainties associated with the costs of that future work at the Site. The settlement includes a covenant not to sue the settling parties for claims pursuant to sections 106 and 107(a) of CERCLA, 42 U.S.C. 9606 and 9607(a), in exchange for their payment of monies. For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at EPA Region II, 290 Broadway, New York, New York 10007-1866.

DATES: Comments must be submitted on or before June 20, 2005.

ADDRESSES: The proposed settlement is available for public inspection at EPA Region II offices at 290 Broadway, New York, New York 10007-1866. Comments should reference the Li Tungsten Site located in Glen Cove, Nassau County, New York, Index No. CERCLA-02-2005-2003. To request a copy of the proposed settlement agreement, please contact the individual identified below.

FOR FURTHER INFORMATION CONTACT: James F. Doyle, Assistant Regional Counsel, New York/Caribbean Superfund Branch, Office of Regional Counsel, U.S. Environmental Protection Agency, 17th Floor, 290 Broadway, New York, New York 10007-1866. Telephone: (212) 637-3165.

Dated: May 4, 2005.
William McCabe,
Acting Division Director, Emergency Remedial Response Division, Region 2.

[FR Doc. 05-10144 Filed 5-19-05; 8:45 am]

BILLING CODE 6560-50-P